DEPARTMENT OF THE INTERIOR

National Park Service

[NPS-WASO-NRNHL-DTS#-30656 ;PPWOCRADI0, PCU00RP14.R50000]

National Register of Historic Places; Notification of Pending Nominations and Related Actions

AGENCY: National Park Service, Interior.

ACTION: Notice.

SUMMARY: The National Park Service is soliciting electronic comments on the significance of properties nominated before July 18, 2020, for listing or related actions in the National Register of Historic Places.

DATES: Comments should be submitted electronically by August 21, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before July 18, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CONNECTICUT

Fairfield County

The Lodges Historic District, 68 and 70 South Main St., Norwalk, SG100005501

INDIANA

Allen County

St. Rose de Lima Roman Catholic Church and Rectory, 209 Mulberry St. and 206 Summit St., Monroeville, SG100005514

Benton County

Oxford Community Mausoleum, (Early Community Mausoleum Movement in Indiana MPS), 3268 West IN 352, Oxford vicinity, MP100005507

Clark County

M. Fine & Sons Building, 835 Spring St., Jeffersonville, SG100005505

Dubois County

St. Ferdinand Parish Historic District, Roughly bounded by Maryland, 8th, and 10th Sts., and St. Benedict Drive, Ferdinand, SG100005513

Elkhart County

Pletcher, Robert and Susan, House, (Residential Planning and Development in Indiana, 1940-1973 MPS), 1102 Northwood Dr., Nappanee, MP100005508

Fountain County

Veedersburg Clover Leaf Route Depot, 295 East 2nd St., Veedersburg, SG100005516

Greene County

Old Clifty Church, 3088 South Old Clifty Rd., Bloomfield, SG100005506

Henry County

Henry County Memorial Park, 2221 North Memorial Dr., New Castle, SG100005504

Jackson County

Westside Historic District, (Historic Residential Suburbs in the United States, 1830-1960 MPS), Roughly bounded by Bryant Blvd., Poplar, Maple, and 6th Sts., Seymour, MP100005517

La Porte County

Frost, Dr. Robert and Amelia House, (Residential Planning and Development in Indiana, 1940-1973 MPS), 3215 Cleveland Ave., Michigan City, MP100005503

Tryon Farm, 1400 and 1402 Tyron Rd., Michigan City, SG100005515

Owen County

Spencer Courthouse Square Historic District, Roughly Franklin, Washington, Market and Main Sts., between Montgomery, Morgan, Harrison, and Jefferson Sts., Spencer, SG100005510

Spencer Presbyterian Church and Manse, 154 North Main St., Spencer, SG100005511

Tippecanoe County

Spring Vale Cemetery, 2580 Schuyler Avenue, Lafayette, SG100005512

Vigo County

Ehrmann Building, 929 Wabash Ave., Terre Haute, SG100005502

IOWA

Carroll County

Manning Milwaukee Railroad Trestle, Crosses Railroad/Center St., 682 ft. north of Julia St., Manning vicinity, SG100005487

Linn County

Knott, Adams R., Frederick L. and Martha (Taylor), House, (Mount Vernon MPS), 417 A Ave. SE, Mount Vernon, MP100005488

Bauman, Augustus and Elizabeth (Huntsberger), House, (Mount Vernon MPS), 601 1st Ave. SW, Mount Vernon, MP100005489

Wilds, Col. John Q. and Rowena (Camp), House, (Mount Vernon MPS), 113 2nd Ave. NW, Mount Vernon, MP100005490

Pease, Dr. Luther L. and Susette E. (Baker), House, (Mount Vernon MPS), 600 1st Ave. South, Mount Vernon, MP100005491

Waln, Elijah D. and Mary J. (Adams), House, (Mount Vernon MPS), 323 3rd St. NE, Mount Vernon, MP100005492

Robinson, George W. and Mary J. (Maxwell), House, (Mount Vernon MPS), 514 1st St. SE, Mount Vernon, MP100005494

Albright, Henry D. and Juliana (Wortz), House, (Mount Vernon MPS), 224 1st St. SW, Mount Vernon, MP100005495

Smith, James J. and Anna J. (Linean), House #1, (Mount Vernon MPS), 316 3rd Ave. SW, Mount Vernon, MP100005496

Smith, James J. and Anna J. (Linean), House #2, (Mount Vernon MPS), 201 2nd Ave. NW, Mount Vernon, MP100005497

McCartney, James H. and Mayetta (Degrush), House, (Mount Vernon MPS), 214 2nd St. SE, Mount Vernon, MP100005498

Shantz, Martin L. and Mary Jane (Yount), House, (Mount Vernon MPS), 303 A Ave. SE, Mount Vernon, MP100005499

Madison County

Lewis, Judge W.H. and Emma, Historic District, 1145 Summit St. West, Winterset, SG100005493

MASSACHUSETTS

Franklin County

Orange Armory, 135 East Main St., Orange, SG100005477

Middlesex County

Malden City Infirmary, 341 Forest St., Malden, SG100005476

Worcester County

Printers Building, The, 44-50 Portland St., Worcester, SG100005478

NEW YORK

Dutchess County

Sutherland Cemetery, 305 Market Ln., Stanfordville, SG100005468

Shear Homestead, 34 Rymph Rd., Lagrangeville, SG100005479

Essex County

Keene Valley Country Club, 8 Country Club Ln., Keene Valley, SG100005480

Madison County

Morrisville Engine House, 93 East Main St., Morrisville, SG100005481

Nassau County

Schmidlapp-Humes Estate Historic District, 5 Frost Mill Rd., 345 Oyster Bay Rd., and 3 Dogwood Ln., Locust Valley, SG100005469

New York County

New York Public Library, Fort Washington Branch, (Carnegie Libraries of New York City MPS), 535 West 179th St., New York, MP100005470

Niagara County

Sweeney Estate Historic District, Portions of Bryant, Christina, Falconer, Goundry, Grant, Niagara, Oliver, Tremont, and, Vandervoot Sts., Lincoln, Payne, Thompson and Whiting Aves., Louisa Pkwy., and Pine, Woods Dr., North Tonawanda, SG100005471

Oneida County

Utica Steam and Mohawk Valley Cotton Mill, 600-800 State St., Utica, SG100005482

Onondaga County

General Ice Cream Corporation Factory, 112-120 Wilkinson St. and 212 Barker Ave., Syracuse, SG100005472

Sylvester Apartment Building, 900-906 East Fayette St., Syracuse, SG100005483

Ontario County

Miller Corsets, Inc. Factory, 10 Chapin St., Canandaigua, SG100005473

Suffolk County

Hauppauge Methodist Episcopal Church, 473 Town Line Rd., Hauppague, SG100005484

Westchester County

Quaker Ridge Golf Club, 146 Griffen Ave., Scarsdale, SG100005485

OHIO

Ashtabula County

Ashtabula Main Avenue Historic District, Roughly bounded by Park Pl., Collins Blvd., West 48th St., Center St., and Park Ave., Ashtabula, SG100005467

Medina County

Seville Inn, 39 West Main St., Seville, SG100005486

PENNSYLVANIA

Erie County

Erie Masonic Temple, 32 West 8th St., Erie, SG100005518

Northampton County

Northampton County Bridge No. 15, Meadows Road west of PA 412/Leithsville Rd. and the Saucon Rail Trail, Lower Saucon Township, SG100005519

Philadelphia County

Peter Woll and Sons Factory, 165-173 West Berks St., Philadelphia, SG100005520

Additional documentation has been received for the following resource:

PENNSYLVANIA

Philadelphia County

Sykes Brothers Yarn Mill (Additional Documentation), (Textile Industry in the Kensington Neighborhood of Philadelphia, Pennsylvania MPS), 2545 North Hancock St., Philadelphia, AD100004701

Nomination submitted by Federal Preservation Officer:

The State Historic Preservation Officer reviewed the following nomination and responded to the Federal Preservation Officer within 45 days of receipt of the nomination and supports listing the property in the National Register of Historic Places.

COLORADO

Larimer County

Cascade Cottages, 4140 Fall River Rd., Estes Park, SG100005475

Authority: Section 60.13 of 36 CFR part 60.

Dated: July 21, 2020.
Sherry A. Frear,
Chief, National Register of Historic Places/National Historic Landmarks Program.

[FR Doc. 2020-17152 Filed 8-5-20; 8:45 am]

BILLING CODE 4312-52-P